DEPARTMENT OF THE TREASURY

Submission for OMB Review; Comment Request

June 5, 2003.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before July 14, 2003 to be assured of consideration.

Internal Revenue Service (IRS)

OMB Number: 1545-0745.

Regulation Project Number: LR-27-83 Temporary and LR-54-85 Temporary.

Type of Review: Extension.

Title: Floor Stocks Credits or Refunds and Consumer Credits or Refunds with Respect to Certain Tax-Repealed Articles; Excise Tax on Heavy Trucks (LR-27-83); and Excise Tax on Heavy Trucks, Truck Trailers and Semitrailers, and Tractors; Reporting and Recordkeeping Requirements (LR-54-85).

Description: LR-27-83 requires sellers of trucks, trailers and semitrailers, and tractors to maintain records of the gross vehicle weights of articles sold to verify taxability. LR-54-85 requires that if the sale is to be treated as exempt, the seller and the purchaser must be registered and the purchaser must give the seller a resale certificate.

Respondents: Business or other for-profit.

Estimated Number of Recordkeepers: 4,100.

Estimated Burden Hours Per Recordkeeper: 1 hour, 1 minute.

Estimated Total Recordkeeping Burden: 4,140 hours.

OMB Number: 1545-1418.

Regulation Project Number: REG-119227-97 Final and Temporary.

Type of Review: Extension.

Title: Kerosene Tax; Aviation Fuel Tax; Taxable Fuel Measurement and Reporting; Tax on Heavy Trucks and Trailers; Highway Vehicle Use Tax.

Description: The regulation finalizes proposed and temporary regulations relating to the tax on kerosene, the refund for certain aviation fuel producers, and the registration rules for certain truck dealers.

Respondents: Business or other for-profit.

Estimated Number of Respondents/Recordkeepers: 346,080.

Estimated Burden Hours Per Respondent/Recordkeeper: 17 minutes.

Frequency of Response: On occasion.

Estimated Total Reporting/Recordkeeping Burden: 97,583 hours.

OMB Number: 1545-1438.

Regulation Project Number: CO-8-91 Final.

Type of Review: Extension.

Title: Distributions of Stock and Stock Rights.

Description: The requested information is required to notify the Service that a holder of preferred stock callable at a premium by the issuer has made a determination regarding the likelihood of exercise of the right to call that is different from the issuer's determination.

Respondents: Business or other for-profit, Individuals or households.

Estimated Number of Respondents: 2,000.

Estimated Burden Hours Per Respondent: 10 minutes.

Frequency of Response: Annually.

Estimated Total Reporting Burden: 333 hours.

Clearance Officer: Glenn Kirkland, (202) 622-3428, Internal Revenue Service, Room 6411-03, 1111 Constitution Avenue, NW., Washington, DC 20224.

OMB Reviewer: Joseph F. Lackey, Jr., (202) 395-7316, Office of Management and Budget, Room 10235, New Executive Office Building, Washington, DC 20503.

Mary A. Able,
Departmental Reports Management Officer.

[FR Doc. 03-14904 Filed 6-12-03; 8:45 am]

BILLING CODE 4830-01-P